DEPARTMENT OF LABOR

Employment and Training Administration

Notice of Determinations Regarding Eligibility to Apply for Worker Adjustment Assistance

In accordance with Section 223 of the Trade Act of 1974, as amended (19 USC 2273) the Department of Labor herein presents summaries of determinations regarding eligibility to apply for trade adjustment assistance for workers by (TA-W) number issued during the period of August 16, 2010 through August 20, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) there has been a shift by the workers' firm to a foreign country in the production of articles or supply of services like or directly competitive with those produced/supplied by the workers' firm;

(B) there has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) The workers have become totally or partially separated from the workers' firm within—

(A) the 1-year period described in paragraph (2); or

(B) notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
73,352 | Republic Special Metals, Inc., Patriot Morgan, Inc. | Canton, OH | January 20, 2009.
73,501 | National Emblem, Inc. | Carson, CA | February 12, 2009.
73,632 | Simclar Interconnect Technologies, Inc., Leased Workers from Express Employment Professionals | Ozark, MO | March 1, 2009.
74,042 | Filtran LLC, Leased Workers from Skills Employment Personnel | Lugoff, SC | April 27, 2009.
74,201 | Mt. Taylor Millwork, Inc | Milan, NM | May 24, 2009.

The following certifications have been issued. The requirements of Section 222(a)(2)(B) (shift in production or services) of the Trade Act have been met.

TA-W No. | Subject firm | Location | Impact date
73,561 | Musashi Auto Parts Michigan, Inc., Musashi Seimitsu Industry Company, Ltd.; Leased Workers Spherion | Battle Creek, MI | February 23, 2009.
73,620 | Ticona Polymers, Celanese Corporation; Polymer Production Unit; Leased Workers from Mundy | Grover, NC | February 22, 2009.
73,676 | Apria Healthcare, Customer Service Department | Birmingham and Mobile, AL | March 8, 2009.
73,676A | Apria Healthcare, Customer Service Department | Little Rock and Lowell, AR | March 8, 2009.
73,676B | Apria Healthcare, Customer Service Department | Bullhead City and Other Cities, AZ | March 8, 2009.
73,676C | Apria Healthcare, Customer Service Department | Lancaster and Other Cities, CA | March 8, 2009.
73,676D | Apria Healthcare, Customer Service Department | Durango, CO | March 8, 2009.
73,676E | Apria Healthcare, Customer Service Department | Cromwell, CT | March 8, 2009.
73,676F | Apria Healthcare, Customer Service Department | Fort Myers and Other Cities, FL | March 8, 2009.
73,676G | Apria Healthcare, Customer Service Department | Athens and Other Cities, GA | March 8, 2009.
73,676H | Apria Healthcare, Customer Service Department | Collinsville, Il | March 8, 2009.
73,676I | Apria Healthcare, Customer Service Department | Colby and Other Cities, KS | March 8, 2009.
73,676J | Apria Healthcare, Customer Service Department | Baton Rouge and Other Cities, LA | March 8, 2009.
73,676K | Apria Healthcare, Customer Service Department | Cameron and Other Cities, MO | March 8, 2009.
73,676L | Apria Healthcare, Customer Service Department | Biloxi, MS | March 8, 2009.
73,676M | Apria Healthcare, Customer Service Department | Arden and Other Cities, NC | March 8, 2009.
73,676N | Apria Healthcare, Customer Service Department | Albuquerque, NM | March 8, 2009.
73,676O | Apria Healthcare, Customer Service Department | Henderson and Sparks, NV | March 8, 2009.
73,676P | Apria Healthcare, Customer Service Department | Tulsa, OK | March 8, 2009.
73,676Q | Apria Healthcare, Customer Service Department | Duncan and Other Cities, SC | March 8, 2009.
73,676R | Apria Healthcare, Customer Service Department | Chattanooga and Other Cities, TN | March 8, 2009.
73,676S | Apria Healthcare, Customer Service Department | Amarillo and Other Cities, TX | March 8, 2009.
73,676T | Apria Healthcare, Customer Service Department | Layton and Salt Lake City, UT | March 8, 2009.
73,676U | Apria Healthcare, Customer Service Department | Spokane, WA | March 8, 2009.
73,826 | Kincaid, Inc. | Athens, TN | March 31, 2009.
73,847 | PricewaterhouseCoopers, LLP, Internal Firm Services Client Account Administrators Group | Florham Park, NJ | March 22, 2009.
73,907 | Sherrill Manufacturing, Inc. | Sherrill, NY | April 12, 2009.
73,951 | Ethicon, Johnson & Johnson; Leased Workers Kelly Temporary Services | San Angelo, TX | April 13, 2009.
74,077 | Robb and Stucky LTD., LLLP, Leased Workers Spartan Staffing | Lincolnton, NC | May 11, 2009.
74,180 | Panasonic Home Appliances Company of America, Panasonic Corporation of North America; Leased Workers Nesco Resource, etc | Danville, KY | April 24, 2009.
74,300 | Als Holdings, Inc., Formerly known as Apex Label and Systems, Inc., Tapp Technologies, Inc | Clackamas, OR | June 24, 2009.
74,369 | Lanxess Sybron Chemicals, Inc., Lanxess Corporation; Leased Workers from Belcan Corporation | Birmingham, NJ | March 19, 2010.
74,372 | Metalsa Structural Products, Inc., Formerly Dana Holding Corporation, Product Engineering Group | Pottstown, PA | June 14, 2009.
74,373 | Metlife Group, Inc., Technology & Operations Division; Customer Sales & Service Unit; etc | West Warwick, RI | July 12, 2009.
74,390 | Haldex Brake Corporation, Commercial Vehicle Systems | Iola, KS | July 15, 2009.
74,422 | World Color (USA), LLC, Dyersburg Division; Staffmark, Diversco, Metro | Dyersburg, TN | July 16, 2009.
74,435 | Philips Professional Luminaries, Philips Lighting; Leased Workers from Adecco | Union, NJ | July 21, 2009.
74,463 | Kimble Chase Life Science and Research Products, LLC, Leased Workers from Manpower | Vineland, NJ | July 14, 2009.
74,470 | Standard Microsystems Corporation, Also Known as SMSC; Production Test Division | Hauppauge, NY | August 2, 2012.
74,486 | Precision Dormer, LLC, Crystal Lake Supply Unit, Sandvik, Leased Workers from Staff Mark | Crystal Lake, IL | August 3, 2009.

The following certifications have been issued. The requirements of Section 222(c) (supplier to a firm whose workers are certified eligible to apply for TAA) of the Trade Act have been met.

TA-W No. | Subject firm | Location | Impact date
74,160 | American General—AIG, Life Brokerage; American International Group | Wauwatosa, WI | May 27, 2009.
74,258 | RWD Technologies, LLC, RWD Technologies, Inc.; National Practices; etc | Troy, MI | May 26, 2009.
74,335 | Jatal, Inc., Accel Plastics; Leased Workers from Smart Talent | Auburn, WA | June 30, 2009.

The following certifications have been issued. The requirements of Section 222(c) (downstream producer for a firm whose workers are certified eligible to apply for TAA) of the Trade Act have been met.

TA-W No. | Subject firm | Location | Impact date
73,096 | USF Holland, Inc., Detroit Service Center; YRC Worldwide | Romulus, MI | November 18, 2008.
73,802 | JD Irving Woodland, LLC | Fort Kent, ME | March 15, 2009.
73,945 | Carlen Transport, Inc. | Hampden, ME | April 7, 2009.

Negative Determinations for Worker Adjustment Assistance

In the following cases, the investigation revealed that the eligibility criteria for worker adjustment assistance have not been met for the reasons specified.

The investigation revealed that the criteria under paragraphs (a)(2)(A) (increased imports) and (a)(2)(B) (shift in production or services to a foreign country) of section 222 have not been met.

TA-W No. | Subject firm | Location | Impact date
72,729 | International Paper, Pineville Mill, Industrial Packaging Group | Pineville, LA. |
73,030 | Apex Systems, Inc., Working on-site at Verizon Business Network Services, Inc | Colorado Springs, CO. |
73,108 | TEKsystems, Inc., Allegis Group, Inc.; Doing Business as Aerotek | Pittsburgh, PA. |
73,228 | Superior Technical Resources, Inc., Classmates.com | Seattle, WA. |
73,281 | Shorewood Packaging, International Paper Company, Leased Workers Ameristaff Staffing | Danville, VA. |
73,383 | Conner Steel Products, Inc. | San Angelo, TX. |
73,848 | MDM Supply Company | Missoula, MT. |
74,132 | DuPont Performance EElastomers, Hypalon Unit | Nederland, TX. |
74,310 | Eli Lilly and Company, Business System Operations | Indianapolis, IN. |
74,327 | Anthem Blue Cross Blue Shield, Claim Management Services, Inc. Operations, A Division of Wellpoint, Inc | Green Bay, WI. |
74,347 | NCR Corporation, USPS Help Desk of Customer Care Center, Leased Workers of Volt Consulting | West Columbia, SC. |
74,395 | FTCA, Inc. | Somerset, PA. |

The investigation revealed that the criteria under paragraphs (b)(2) and (b)(3) (public agency acquisition of services from a foreign country) of section 222 have not been met.

TA-W No. | Subject firm | Location | Impact date
74,331 | Madison County Employment and Training, Administration Building | Wood River, IL. |
74,331A | Madison County Employment and Training, Field Office | Granite City, IL. |
74,331B | Madison County Employment and Training, Field Office | Alton, IL. |
74,331C | Madison County Employment and Training, Field Office | Edwardsville, IL. |
74,331D | Madison County Employment and Training, Field Office | Glen Carbon, IL. |

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
73,979 | Hagemeyer North America, Chambersburg Distribution Center | Chambersburg, PA. |
74,067 | Kartheiser Trucking, Inc. | Columbia Falls, MT. |
74,485 | Akzo Nobel Nonstick Coatings | Des Plaines, IL. |

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W No. | Subject firm | Location | Impact date
73,145 | M & L Manufacturing, Inc. and The Jewelry Stream | Los Angeles, CA. |

The following determinations terminating investigations were issued because the petitioning groups of workers are covered by active certifications. Consequently, further investigation in these cases would serve no purpose since the petitioning group of workers cannot be covered by more than one certification at a time.

TA-W No. | Subject firm | Location | Impact date
73,770A | Chrysler Group, LLC, St. Louis North Plant | Fenton, MO. |
73,807 | Keane, Inc., Working On-Site at Teachers Insurance Annuity Association (TIAA-CREF) | Boston, MA. |
73,937 | Apria Healthcare, Customer Service Division | Duluth, GA. |

The following determinations terminating investigations were issued because the petitions are the subject of ongoing investigations under petitions filed earlier covering the same petitioners.

TA-W No. | Subject firm | Location | Impact date
74,522 | HealthPlan Services | Tampa, FL.

The following determinations terminating investigations were issued because the Department issued a negative determination on petitions related to the relevant investigation period applicable to the same worker group. The duplicative petitions did not present new information or a change in circumstances that would result in a reversal of the Department's previous negative determination, and therefore, further investigation would duplicate efforts and serve no purpose.

TA-W No. | Subject firm | Location | Impact date
73,770 | Chrysler Group, LLC, St. Louis South Plant | Fenton, MO. |

I hereby certify that the aforementioned determinations were issued during the period of August 16, 2010 through August 20, 2010. Copies of these determinations may be requested under the Freedom of Information Act. Requests may be submitted by fax, courier services, or mail to FOIA Disclosure Officer, Office of Trade Adjustment Assistance (ETA), U.S. Department of Labor, 200 Constitution Avenue, N., Washington, DC 20210 or tofoiarequest@dol.gov. These determinations also are available on the Department's Web site at http://www.doleta.gov/tradeact under the searchable listing of determinations.

Dated: August 27, 2010.
Michael W. Jaffe,
Certifying Officer, Division of Trade Adjustment Assistance.

[FR Doc. 2010-22104 Filed 9-2-10; 8:45 am]

BILLING CODE 4510-FN-P